DEPARTMENT OF HOMELAND SECURITY

8 CFR Parts 103, 106, 204, 211, 212, 214, 216, 217, 223, 235, 236, 240, 244, 245, 245a, 248, 264, 274a, 286, 301, 319, 320, 322, 324, 334, 341, 343a, 343b, and 392

[CIS No. 2627-18; DHS Docket No. USCIS-2019-0010]

RIN 1615-AC18

U.S. Citizenship and Immigration Services Fee Schedule and Changes to Certain Other Immigration Benefit Request Requirements

AGENCY: U.S. Citizenship and Immigration Services, DHS.

ACTION: Final rule; correction.

SUMMARY: On August 3, 2020, the Department of Homeland Security (DHS) published a final rule to amend DHS regulations to adjust certain immigration and naturalization benefit request fees charged by U.S. Citizenship and Immigration Services (USCIS) and make certain other changes. In this rule, we are correcting four technical errors.

DATES: Effective October 2, 2020.

FOR FURTHER INFORMATION CONTACT: Kika Scott, Chief Financial Officer, U.S. Citizenship and Immigration Services, Department of Homeland Security, 20 Massachusetts Avenue NW, Washington, DC 20529-2130, telephone (202) 272-8377.

SUPPLEMENTARY INFORMATION:

Need for Correction

On August 3, 2020, the Department of Homeland Security published a final rule in the Federal Register at 85 FR 46788 changing immigration and naturalization benefit request fees charged by U.S. Citizenship and Immigration Services (USCIS), fee exemptions and fee waiver requirements, premium processing time limits, and intercountry adoption processing (FR Doc. 2020-16389). First, in footnote 41 on page 46813, column 1, although the rule was a final rule, it states, “However, DHS proposes changes to the policy in this final rule as explained later in this preamble.” Second, on page 46908, in Table 11, the final rule includes a line item for OMB control number 1615-0122. This control number is not affected by the rule and should be removed from that table. Third, DHS inadvertently, on page 46914, stated that it proposes to amend chapter I of title 8 of the Code of Federal Regulations, although the rule is a final rule. And fourth, in instruction 35, on page 46925, we removed a term from paragraph (k)(1) in 8 CFR 214.11 that does not exist in (k)(1), but exists in (k)(10).

Correction of Publication

Accordingly, the publication on August 3, 2020, at 85 FR 46788, the final rule that was the subject of FR Doc. 2020-16389 is corrected as follows:

1. On page 46813, column 1, in footnote 41, revise the second to last sentence to read, “However, DHS changes the policy in this final rule as explained later in this preamble.”

2. On page 46908, in Table 11, remove the row for OMB control number 1615-0122, Immigrant Fee, from the table.

3. On page 46914, in the first column, the words of issuance, “Accordingly, DHS proposes to amend chapter I of title 8 of the Code of Federal Regulations as follows:” are corrected to read, “Accordingly, DHS amends chapter I of title 8 of the Code of Federal Regulations as follows:”

§ 214.11 [Corrected]

4. On page 46925, in the second column, instruction 35 is corrected to read “Section 214.11 is amended in paragraphs (d)(2)(iii) and (k)(10) by removing “8 CFR 103.7(b)(1)” and adding in its place “8 CFR 106.2.”

Chad R. Mizelle,
Senior Official Performing the Duties of the General Counsel for the Department of Homeland Security.

[FR Doc. 2020-17939 Filed 8-13-20; 4:15 pm]

BILLING CODE 9111-97-P